DEPARTMENT OF ENERGY

Federal Energy Regulatory Commission

[Project No. 2106-059]

Pacific Gas and Electric Company, California; Notice Correcting Times for Public Draft Environmental Impact Statement Meetings

August 25, 2010.

As stated in the July 30, 2010 Notice of Availability for the McCloud-Pit Hydroelectric Project draft Environmental Impact Statement (EIS), Commission staff will be conducting two public meetings to receive comments on the draft EIS. The July 30, 2010 notice, however, incorrectly listed the time for the morning meeting as 9 a.m.-11 p.m.. This notice corrects that error to indicate the meeting is from 9 a.m.-11 a.m.

The time and location of the meetings are as follows:

Morning Meeting:

Date: September 9, 2010.

Time: 9 a.m.-11 a.m.

Place: Holiday Inn Hotel,

Address: 1900 Hilltop Dr., Redding, CA.

Evening Meeting:

Date: September 9, 2010.

Time: 7 p.m.-9 p.m.

Place: Holiday Inn Hotel,

Address: 1900 Hilltop Dr., Redding, CA.

At these meetings, resource agency personnel and other interested persons will have the opportunity to provide oral and written comments and recommendations regarding the draft EIS. The meetings will be recorded by a court reporter, and all statements (verbal and written) will become part of the Commission's public record for the project. This meeting is posted on the Commission's calendar located at http://www.ferc.gov/EventCalendar/EventsList.aspx along with other related information.

Whether or not you attend one of these meetings, you are invited to submit written comments on the draft EIS. Comments should be filed with Kimberly D. Bose, Secretary, Federal Energy Regulatory Commission, 888 First Street, NE., Washington, DC 20426. All comments must be filed by September 28, 2010, and should reference Project No. 2106-059. Comments may be filed electronically via the Internet in lieu of paper. The Commission strongly encourages electronic filings. See 18 CFR 385.2001(a)(1)(iii) and instructions on the Commission's Web site at http://www.ferc.gov under the “e-Library” link.

The Commission staff will consider comments made on the draft EIS in preparing a final EIS for the project. Before the Commission makes a licensing decision, it will take into account all concerns relevant to the public interest. The final EIS will be part of the record from which the Commission will make its decision.

For further information, please contact Emily Carter at (202) 502-6512.

Kimberly D. Bose,
Secretary.

[FR Doc. 2010-21792 Filed 8-31-10; 8:45 am]

BILLING CODE 6717-01-P